INTERNATIONAL TRADE COMMISSION

[Investigation No. 731-TA-1022 (Review)]

Refined Brown Aluminum Oxide From China; Determination

On the basis of the record ¹ developed in the subject five-year review, the United States International Trade Commission (Commission) determines, pursuant to section 751(c) of the Tariff Act of 1930 (19 U.S.C. 1675(c)), that revocation of the antidumping duty order on refined brown aluminum oxide from China would be likely to lead to continuation or recurrence of material injury to an industry in the United States within a reasonably foreseeable time.

¹ The record is defined in section 207.2(f) of the Commission's Rules of Practice and Procedure (19 CFR 207.2(f)).

Background

The Commission instituted this review on October 1, 2008 (73 FR 57149) and determined on January 5, 2009 that it would conduct an expedited review (74 FR 1706, January 13, 2009).

The Commission transmitted its determination in this review to the Secretary of Commerce on March 2, 2009. The views of the Commission are contained in USITC Publication 4063 (March 2009), entitled Refined Brown Aluminum Oxide from China: Investigation No. 731-TA-1022 (Review).

Issued: March 2, 2009.
By order of the Commission.
Marilyn R. Abbott,
Secretary to the Commission.

[FR Doc. E9-4790 Filed 3-5-09; 8:45 am]

BILLING CODE 7020-02-P